DEPARTMENT OF JUSTICE

Antitrust Division

Notice Pursuant to the National Cooperative Research and Production Act of 1993—Network Service Enablers Work Order Collaboration

Notice is hereby given that, on April 20, 2007, pursuant to Section 6(a) of the National Cooperative Research and Production Act of 1993, 15 U.S.C. 4301 et seq. (“the Act”), Network Service Enablers Work Order Collaboration (“NSEWOC”) has filed written notification simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Intel Americas, Inc., Santa Clara, CA; Nissan Technical Center North America, Inc., Farmington Hills, MI; and TechnoCom Corporation, Encino, CA. The general area of NSEWOC's planned activity is the development of linkages between applications in on-board vehicle equipment and various network services and functions in the vehicle infrastructure integration system, a national infrastructure to enable data collection and exchange in real time between vehicles, and between vehicles and the roadway.

Patricia A. Brink,
Deputy Director of Operations, Antitrust Division.

[FR Doc. 07-2849 Filed 6-7-07; 8:45 am]

BILLING CODE 4410-11-M